DEPARTMENT OF HOMELAND SECURITY

Coast Guard

[USCG-2003-16696]

Pollution Prevention Equipment; Standards for Approval

AGENCY: Coast Guard, DHS.

ACTION: Notice of policy.

SUMMARY: The Coast Guard will consider alternative testing standards, including but not limited to standards in International Maritime Organization (IMO) resolutions MEPC.107(49) and MEPC.108(49), for approval of oil-water separators, bilge monitors, cargo monitors and bilge alarms, and for the designation of laboratories as approved facilities to conduct tests on this pollution prevention equipment (PPE). The standards in these resolutions will come into force internationally in 2005 and will replace existing international standards reflected in current PPE Coast Guard regulations.

DATES: This policy is effective December 31, 2003. Comments and related material must reach the Docket Management Facility on or before March 30, 2004.

ADDRESSES: You may submit comments identified by Coast Guard docket number USCG-2003-16696 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329. This notice and resolutions MEPC.107(49) and MEPC.108(49) are in docket USCG-2003-16696 and are available for inspection or copying at the Docket Management Facility, U.S. Department of Transportation, room PL-401, 400 Seventh Street SW., Washington, DC, between 9 a.m. and 5 p.m., Monday through Friday, except Federal holidays. You may also find this docket on the Internet at http://dms.dot.gov. ISO 9377-2 may be obtained for a fee through ISO's website http://www.iso.org.

FOR FURTHER INFORMATION CONTACT: If you have questions on this notice, call Lieutenant George Grills, Systems Engineering Division, Office of Design and Engineering Standards, (202) 267-6640. If you have questions on viewing or submitting material to the docket, call Andrea M. Jenkins, Program Manager, Docket Operations, (202) 366-0271.

SUPPLEMENTARY INFORMATION:

Reason for Policy Notice

As a participant in the International Maritime Organization Marine Environmental Protection Committee (MEPC) that revised international pollution prevention equipment (PPE) performance, design and maintenance standards, the U.S. Coast Guard is aware of advances in PPE technology more capable of effectively processing emulsified oils, surfactants, and contaminants.

It is also aware that current Coast Guard PPE regulations, reflected in 46 CFR 162.050-39, require use of solvents, specifically carbon tetrachloride and Freon 113 (CFC 113), that are Class I ozone-depleting substances under the Clean Air Act amendments of 1990 (42 U.S.C. 7671a). Under the Montreal Protocol on Substances that Deplete the Ozone Layer, the production of these solvents is being phased out internationally.

The United States phased out the import and production of class I ozone-depleting substances effective January 1, 1996 (see 40 CFR 82.4, and 60 FR 24986, May 10, 1995). A provision known as a de minimis exception covering the use of these solvents in laboratories does not include the oil-in-water tests called for by 46 CFR 162.050-39 (see both Decision XI/15 of the Parties to the Montreal Protocol, and appendix G to 40 CFR part 82, subpart A). This situation leaves domestic and foreign manufacturers and testing laboratories looking for other options to measure oil content in water samples taken from PPE.

The MEPC tasked the subcommittee on Ship Design and Equipment with updating MEPC.60(33) adopted on October 30, 1992, and A.586(14) adopted on November 20, 1985, to specifically address the concerns with PPE performance and testing. Representatives of the U.S. government participated in the subcommittee's 46th session that resulted in draft guidelines for PPE that were presented to MEPC at its 49th session.

At that session, on July 18, 2003, MEPC approved resolutions MEPC.107(49) entitled “Revised Guidelines and Specifications for Pollution Prevention Equipment for Machinery Space Bilges of Ships” and MEPC.108(49) entitled “Revised Guidelines and Specifications for Oil Discharge Monitoring and Control Systems for Oil Tankers” to replace MEPC.60(33) and A.586(14) respectively. The new resolutions carry the same titles as those they will replace but these recently approved resolutions now reference ISO 9377-2, a new oil-in-water test standard developed by the International Organization for Standardization (ISO), that does not require the use of ozone-depleting solvents.

The United States is a party to the International Convention for the Prevention of Pollution from Ships, 1973, as modified by the Protocol of 1978 relating thereto (MARPOL 73/78, Annex I/II). Resolutions MEPC.60(33) and A.586(14) were created under MARPOL 73/78, Annex I/II. These two older resolutions will be superseded on January 1, 2005, but while they remain in force, the following sections in subpart 162.050 will continue to reflect their implementation:

§ 162.050-17 Separator test rig.

§ 162.050-19 Monitor and bilge alarm test rig.

§ 162.050-23 Separator: Approval tests.

§ 162.050-27 Cargo Monitor: Approval tests.

§ 162.050-31 Bilge Monitor: Approval tests.

§ 162.050-35 Bilge alarm: Approval tests.

§ 162.050-37(b) Vibration test.

§ 162.050-39 Measurement of oil content.

All other subpart 162.050 sections are either substantially the same as new resolutions MEPC.107(49) and MEPC.108(49) or contain a unique application.

The Coast Guard expects to publish in the Federal Register a proposal to revise 46 CFR subpart 162.050 to reflect the new standards called for in those resolutions. In the interim, PPE manufacturers seeking Coast Guard approval and laboratories applying for designation as an authorized facility, may consider using alternative testing standards to those in the subpart 162.050 sections listed above—including alternative standards in resolutions MEPC.107(49) and MEPC.108(49), that the Coast Guard may, in its discretion, determine ensure equivalent performance characteristics.

Commenting on Notice and Viewing Documents Referenced in It

If you wish to submit comments regarding this policy notice, please send them to the Docket Management Facility at the address under ADDRESSES. All comments received will be posted, without change, to http://dms.dot.gov and will include any personal information you have provided. We have an agreement with the Department of Transportation (DOT) to use the Docket Management Facility. Please see DOT's “Privacy Act” paragraph below.

Submitting comments: If you submit a comment, please include your name and address, and identify the docket number for this rulemaking (USCG-2003-16696). You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Authority: 46 U.S.C. 3306, 3703, E.O. 11735, 38 FR 21243; 3 CFR, 1971-1975 Comp., p. 793; 46 CFR 159.001-7 and 159.005-7; Department of Homeland Security Delegation No. 0170.1.

Dated: December 12, 2003.
Joseph J. Angelo,
Director of Standards, Marine Safety, Security & Environmental Protection.

[FR Doc. 03-32078 Filed 12-30-03; 8:45 am]

BILLING CODE 4910-15-P